NUCLEAR WASTE TECHNICAL REVIEW BOARD

Joint Panel Meeting: June 20-21, 2001—Las Vegas, Nevada

Discussions of the Department of Energy's Supplemental Science and Performance Analyses (SSPA) report, which is expected to be released around the time of the meeting. Presentations on how the SSPA addresses four priority areas previously identified by the Nuclear Waste Technical Review Board as essential elements of any recommendation of the possible repository site at Yucca Mountain, Nevada.

Pursuant to its authority under section 5051 of Public Law 100-203, Nuclear Waste Policy Amendments Act of 1987, on Wednesday, June 20, and Thursday, June 21, 2001, members of the Nuclear Waste Technical Review Board's (Board) Panel on Performance Assessment and its Panel on the Repository will hold a joint meeting in Las Vegas, Nevada, to discuss the U.S. Department of Energy's (DOE) Supplemental Science and Performance Analyses (SSPA). The SSPA, which is expected to be released around the time of the meeting, will cover recent scientific and engineering studies and analyses not reported in previous DOE publications related to the possible repository site at Yucca Mountain, Nevada. The meeting will be open to the public, and opportunities for public comment will be provided. The Board is charged by Congress with reviewing the technical and scientific validity of DOE activities related to civilian radioactive waste management.

The joint panel meeting will be held at the Crowne Plaza Hotel, 4255 South Paradise Road, Las Vegas, Nevada 89109. The telephone number is (702) 369-4400; the fax number is (702) 369-3770. Meeting times are 1:00 p.m. to 5:00 p.m. on Wednesday, June 20, and 8:00 a.m. to 5:00 p.m. on Thursday, June 21.

On June 20, the DOE will present the purpose, content, and overall results of the SSPA.

On June 21, the DOE will describe in detail how the SSPA addresses four priority areas identified by the Board at its January 2001 meeting in Amargosa Valley, Nevada, as essential elements of any potential site recommendation:

• Meaningful quantification of conservatisms and uncertainties in the DOE's performance assessments

• Progress in understanding the underlying fundamental processes involved in predicting the rate of waste package corrosion

• An evaluation and a comparison of the base-case repository design with a low-temperature design

• Development of multiple lines of evidence to support the safety case of the proposed repository. The lines of evidence should be derived independently of performance assessment and thus not be subject to the limitations of performance assessment.

Time will be set aside at the end of each day for public comments. Those wanting to speak are encouraged to sign the “Public Comment Register” at the check-in table. A time limit may have to be set on individual remarks, but written comments of any length may be submitted for the record. Interested parties also will have the opportunity to submit questions in writing.

A detailed agenda will be available approximately one week before the meeting. Copies of the agenda can be requested by telephone or obtained from the Board's Web site at www.nwtrb.gov. Transcripts of the meeting will be available on the Board's Web site, via e-mail, on computer disk, and on a library-loan basis in paper format from Davonya Barnes of the Board staff, beginning on July 30, 2001.

A block of rooms has been reserved at the Crowne Plaza. Reservations must be made by May 25 to receive the meeting rate. When making a reservation, please state that you are attending the Nuclear Waste Technical Review Board meeting. For more information, contact the NWTRB: Karyn Severson, External Affairs; 2300 Clarendon Boulevard, Suite 1300; Arlington, Virginia 22201-3367; (tel) 703-235-4473; (fax) 703-235-4495; (e-mail) info@nwtrb.gov.

The Nuclear Waste Technical Review Board was created by Congress in the Nuclear Waste Policy Amendments Act of 1987. The Board's purpose is to evaluate the technical and scientific validity of activities undertaken by the Secretary of Energy related to managing the disposal of the nation's spent nuclear fuel and high-level radioactive waste. In the same legislation, Congress directed the DOE to characterize a site at Yucca Mountain, Nevada, to determine its suitability as the location of a potential repository for the permanent disposal of spent nuclear fuel and high-level radioactive waste.

Dated: May 17, 2001.
William D. Barnard,
Executive Director, Nuclear Waste Technical Review Board.

[FR Doc. 01-13868 Filed 6-1-01; 8:45 am]

BILLING CODE 6820-A-M